DEPARTMENT OF COMMERCE

National Oceanic and Atmospheric Administration

[RTID 0648-XA205]

Schedules for Atlantic Shark Identification Workshops and Safe Handling, Release, and Identification Workshops; Correction

AGENCY: National Marine Fisheries Service (NMFS), National Oceanic and Atmospheric Administration (NOAA), Commerce.

ACTION: Notice of public workshops; correction.

SUMMARY: NMFS announces that the dates for the Atlantic Shark Identification workshops originally scheduled for May 7, 2020, in Ronkonkoma, NY, and for June 11, 2020, in Manahawkin, NJ have been changed to August 20, 2020, and September 17, 2020, respectively. Also, NMFS is rescheduling the Safe Handling, Release, and Identification workshops originally scheduled for on, Key Largo, FL on May 1, 2020; and Kenner, LA on May 4, 2020. The dates for these workshops have been changed to July 13, 2020, and July 27, 2020, respectively. The workshop times and locations remains unchanged: 12 p.m.-4 p.m. for the Atlantic Shark Identification workshops; and, 9 a.m.-5 p.m. for the Safe Handling, Release, and Identification workshops. Atlantic Shark Identification workshops are mandatory for federally-permitted Atlantic shark dealers. Safe Handling, Release, and Identification workshops are mandatory for shark and swordfish limited-access permit holders who fish with longline or gillnet gear. Additional free workshops will be conducted during 2020.

DATES: The dates for the Atlantic Shark Identification workshops originally scheduled for May 7, 2020, in Ronkonkoma, NY, and for June 11, 2020, in Manahawkin, NJ have been changed to August 20, 2020, and September 17, 2020, respectively. Also, the dates for the Safe Handling, Release, and Identification workshops originally scheduled for Key Largo, FL on May 1, 2020, and Kenner, LA on May 4, 2020, have been changed to July 13, 2020, and July 27, 2020, respectively, unless further noticed. See SUPPLEMENTARY INFORMATION for further details.

ADDRESSES: The Atlantic Shark Identification workshops remain at La Quinta Inn, 10 Aero Road, Bohemia, NY 11716; and, Holiday Inn, 151 Route 72 West, Manahawkin, NJ 08050. The Safe Handling, Release, and Identification workshops remain at Holiday Inn, 99701 Overseas Highway, Key Largo, FL 33037; and, Hilton Hotel, 901 Airline Drive, Kenner, LA 70062. See SUPPLEMENTARY INFORMATION for further details.

FOR FURTHER INFORMATION CONTACT: Rick Pearson by phone: (727) 551-5742.

SUPPLEMENTARY INFORMATION: The workshop schedules, registration information, and a list of frequently asked questions regarding these workshops are posted on the internet at: https://www.fisheries.noaa.gov/atlantic-highly-migratory-species/safe-handling-release-and-identification-workshops, and https://www.fisheries.noaa.gov/atlantic-highly-migratory-species/atlantic-shark-identification-workshops.

Correction

In the Federal Register (Doc. 2020-04022) of February 27, 2020, on page 11346, in the third column, correct the dates of the second and third Atlantic Shark Identification workshops listed under the heading Workshop Dates, Times, and Locations to read:

“2. August 20, 2020, 12 p.m.-4 p.m., Hilton Garden Inn, 3485 Veterans Memorial Highway, Ronkonkoma, NY 11779.

3. September 17, 2020, 12 p.m.-4 p.m., Holiday Inn, 151 Route 72 West, Manahawkin, NJ 08050.”

In the Federal Register (Doc. 2020-04022) of February 27, 2020, on page 11347, in the first column, correct the dates of the third and fourth Safe Handling, Release, and Identification workshops listed under the heading Workshop Dates, Times, and Locations to read:

“3. July 13, 2020, 9 a.m.-5 p.m., Holiday Inn, 99701 Overseas Highway, Key Largo, FL 33037.

4. July 27, 2020, 9 a.m.-5 p.m., Hilton Hotel, 901 Airline Drive, Kenner, LA 70062.”

(Authority: 16 U.S.C. 1801 et seq.)

Dated: May 27, 2020.
Hélène M.N. Scalliet,
Acting Director, Office of Sustainable Fisheries, National Marine Fisheries Service.

[FR Doc. 2020-11785 Filed 6-1-20; 8:45 am]

BILLING CODE 3510-22-P